DEPARTMENT OF COMMERCE

Submission for OMB Review; Comment Request

The Department of Commerce will submit to the Office of Management and Budget (OMB) for clearance the following proposal for collection of information under the provisions of the Paperwork Reduction Act (44 U.S.C. Chapter 35).

Agency: International Trade Administration (ITA).

Title: Commercial Service—Strategic User Satisfaction Surveys.

Form Number(s): ITA-4157P.

OMB Control Number: 0625-0262.

Type of Request: Regular submission.

Burden Hours: 375.

Number of Respondents: 1,500.

Average Hours per Response: 15 minutes.

Needs and Uses: The U.S. Commercial Service (CS) is mandated by Congress to help U.S. businesses, particularly small and medium-sized companies, export their products and services to global markets. Additionally, the CS plays a leading role in achieving the President's National Export Initiative and doubling exports within five years. To achieve its mission, the CS provides U.S. businesses with a range of export assistance services and resources including export counseling from one of our domestic Export Assistance Centers, educational webinars and seminars, an export-focused Web site (http://www.export.gov), a trade-related help line (1-800-USA-TRAD(E)), international industry research, international business partner match-making services and basic due diligence services on potential international partners.

The CS relies on client feedback to guide the development of services to meet clients' needs and to improve the effectiveness of its export assistance services. The CS uses the two collection instruments (“U.S. Commercial Service Perception and Awareness Survey” and the “U.S. Commercial Service Customer Satisfaction Survey”) to: (1) Assess our marketing and promotional activities; and (2) measure clients' overall satisfaction with the full array of services and experiences they have had with the CS on an annual basis.

Affected Public: Business or other for-profit organizations.

Frequency: Annually.

Respondent's Obligation: Voluntary.

OMB Desk Officer: Wendy L. Liberante, Phone (202) 395-3647.

Copies of the above information collection proposal can be obtained by calling or writing Diana Hynek, Departmental Paperwork Clearance Officer, (202) 482-0266, Department of Commerce, Room 6616, 14th and Constitution Avenue, NW., Washington, DC 20230 (or via the Internet at dHynek@doc.gov).

Written comments and recommendations for the proposed information collection should be sent within 30 days of publication of this notice to Wendy Liberante, OMB Desk Officer, via the Internet at Wendy_L._Liberante@omb.eop.gov, or FAX number (202) 395-5167.

Dated: December 14, 2010.
Gwellnar Banks,
Management Analyst, Office of the Chief Information Officer.

[FR Doc. 2010-31831 Filed 12-17-10; 8:45 am]

BILLING CODE 3510-FP-P